FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than July 7, 2014.

A. Federal Reserve Bank of Cleveland (Nadine Wallman, Vice President) 1455 East Sixth Street, Cleveland, Ohio 44101-2566:

1. Farmers and Merchants Bancorp of Western Pennsylvania, Inc., Kittanning, Pennsylvania to acquire 100 percent of the voting shares of Nextier, Inc., and thereby indirectly acquire voting shares of Nextier Bank, NA, both in Butler, Pennsylvania.

B. Federal Reserve Bank of Minneapolis (Jacquelyn K. Brunmeier, Assistant Vice President) 90 Hennepin Avenue, Minneapolis, Minnesota 55480-0291:

1. J & B Financial Holdings, Inc., Minneapolis, Minnesota; to acquire 100 percent of the voting shares of DUBOIS BankShares, Inc. (d/b/a 1st State Agency), and indirectly acquire voting shares of First State Bank of Sauk Centre, both in Sauk Centre, Minnesota.

In connection with this application, Applicant has proposed to engage in general insurance activities in a community that has a population not exceeding 5,000, pursuant to section 225.28(b)(11)(iii)(A).

Board of Governors of the Federal Reserve System, June 9, 2014.
Michael J. Lewandowski,
Associate Secretary of the Board.

[FR Doc. 2014-13722 Filed 6-11-14; 8:45 am]

BILLING CODE 6210-01-P